DEPARTMENT OF ENERGY

Proposed Agency Information Collection

AGENCY: Office of Civil Rights and Diversity, U.S. Department of Energy.

ACTION: Notice and request for OMB review and comment.

SUMMARY: The Department of Energy (DOE) has submitted to the Office of Management and Budget (OMB) for clearance, a proposal for collection of information under the provisions of the Paperwork Reduction Act of 1995. The proposed collection will measure perceptions of DOE and contractor employees regarding the Employee Concerns Program, as well as measure the effectiveness of the Employee Concerns Program as experienced by clients.

DATES: Comments regarding this collection must be received on or before April 14, 2008. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503, and to Stan Branch, Employee Concerns Manager, Richland Operations Office, U.S. Department of Energy, P.O. Box 550, M.S. A1-61, Richland, WA 99352, or by fax at (509) 372-0998, or by e-mail at stanley_o_branch@rl.gov.

FOR FURTHER INFORMATION CONTACT: Requests for additional information or copies of the information collection instrument and instructions should be directed to William A. Lewis, Jr., Deputy Director, Office of Civil Rights and Diversity, U.S. Department of Energy, 1000 Independence Ave., SW., Washington, DC 20585, or by fax at (202) 586-0888, or by e-mail at bill.lewis@hq.doe.gov.

SUPPLEMENTARY INFORMATION: This information collection request contains: (1) OMB No. {enter “New”}; (2) Information Collection Request Title: Employee Concerns Program Federal/Contractor Survey; (3) Type of Request: New Collection; (4) Purpose: Prepare and perform an agency-wide Employee Concerns Program survey measuring perceptions of DOE and contractor employees regarding the Employee Concerns Program, as well as measuring the effectiveness of the Employee Concerns Program as experienced by clients; (5) Type of Respondents: DOE federal and contractor employees; (6) Estimated Number of Respondents: 40,000; (6) Estimated Number of Burden Hours: 10,000.

Statutory Authority

DOE ECP Order 442.1A, section 4(F). This order implements an Employee Concerns Program. DOE, federal and contractor employees, including supervisors and managers at any level in an organization, may report employee concerns related to the environment, safety, health, and management of DOE and National Nuclear Security Administration programs and facilities to Headquarters or field elements' Employee Concerns Programs. This independent, objective survey will help determine if employees feel free to express concerns to management.

Issued in Washington, DC.
William A. Lewis, Jr.,
Deputy Director, Office of Civil Rights and Diversity.

[FR Doc. E8-5144 Filed 3-13-08; 8:45 am]

BILLING CODE 6450-01-P